COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before March 3, 2016.

ADDRESSES: Comments regarding the burden estimated or any other aspect of the information collection, including suggestions for reducing the burden, may be submitted directly to the Office of Information and Regulatory Affairs in OMB, within 30 days of publication of the notice, by email at OIRAsubmissions@omb.eop.gov. Please identify the comments by OMB Control No. 3038-0061. Please provide the Commission with a copy of all submitted comments at the address listed below. Please refer to OMB Reference No. 3038-0061, found on http://reginfo.gov. Comments may also be mailed to the Office of Information and Regulatory Affairs, Office of Management and Budget, Attention: Desk Officer for the Commodity Futures Trading Commission, 725 17th Street NW., Washington, DC 20503, and to the Commission through its Web site at http://comments.cftc.gov. Follow the instructions for submitting comments through the Web site.

Comments may also be mailed to: Christopher Kirkpatrick, Secretary of the Commission, Commodity Futures Trading Commission, Three Lafayette Centre, 1155 21st Street NW., Washington, DC 20581, or by Hand Delivery/Courier at the same address.

A copy of the supporting statements for the collection of information discussed above may be obtained by visiting http://reginfo.gov. All comments must be submitted in English, or if not, accompanied by an English translation. Comments will be posted as received to http://www.cftc.gov.

FOR FURTHER INFORMATION CONTACT: Tom Guerin, Division of Market Oversight, Commodity Futures Trading Commission, (202) 734-4194, email: tguerin@cftc.gov, and refer to OMB Control No. 3038-0061.

SUPPLEMENTARY INFORMATION: An agency may not conduct or sponsor, and a person is not required to respond to, a collection of information unless it displays a currently valid OMB control number. The Federal Register notice with a 60-day comment period soliciting comments on this collection of information was published on December 3, 2015 (80 FR 75663).

Title: Daily Trade and Supporting Data Reports (OMB Control No. 3038-0061). This is a request for extension of a currently approved information collection.

Abstract: Commission Regulation 16.02 requires Reporting Markets, including Designated Contract Markets, to provide the Commission with trade and supporting data reports on a daily basis. The Commission analyzes the daily trade and supporting data reports to discharge its regulatory responsibilities, including the responsibilities to prevent market manipulations and commodity price distortions and ensure the financial integrity of its jurisdictional markets.

This ICR concerns the collections of information required by 17 CFR 16.02. Commission staff estimates that up to 30 reporting markets could provide this data to the Commission in the future. The Commission did not receive any comments regarding the burden estimate or any other aspect of this ICR.

Burden Statement: Commission staff estimate that the total annual time burden for this ICR is 15,000 hours. Commission staff estimates that the total annual cost for this ICR is $1,139,700. The time burden estimate represents the annual burden that Reporting Markets incur to operate and maintain automated reporting systems and processes that facilitate the reporting of trade and supporting data reports to the Commission on a daily basis. The electronic reporting required by Commission Rule 16.02 is generally accomplished in an automated manner by respondents' computer systems. Reporting entities have already incurred significant one-time costs to establish the capability to electronically report trade and supporting data to the Commission on a daily basis. The burden hours currently incurred by respondents to comply with Commission Rule 16.02 are primarily related to the hours necessary to oversee, maintain, and utilize respondents' existing automated reporting functionality.

Commission staff estimates that Reporting Markets expend an average of two hours per trading day to oversee, maintain, and utilize their systems and procesess to comply with Commission Rule 16.02. Commission staff calculated the estimated cost burden by multiplying the estimated time burden by an estimated appropriate hourly wage rate of $75.98. Commission staff derived the estimated appropriate hourly wage rate by averaging the salaries and bonuses of relevant professions reported in the SIFMA Report on Management & Professional Earnings in the Securities Industry 2013.

Respondents/Affected Entities: Reporting Markets.

Estimated Number of Respondents: 30.

Estimated Total Annual Burden on Respondents: 15,000 hours.

Estimated Total Annual Cost: $1,139,700.

Frequency of Collection: Ongoing.

Authority: 44 U.S.C. 3501 et seq.

Dated: January 27, 2016.
Robert N. Sidman,
Deputy Secretary of the Commission.

[FR Doc. 2016-01774 Filed 2-1-16; 8:45 am]

BILLING CODE 6351-01-P